COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were previously furnished by nonprofit agencies employing persons who are blind or have other severe disabilities.

Comments must be received on or before: 3/19/2017.

ADDRESSES: Committee for Purchase From People Who Are Blind or Severely Disabled, 1401 S. Clark Street, Suite 715, Arlington, Virginia 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products are proposed for deletion from the Procurement List:

Products

NSN(s)—Product Name(s):

8415-00-NSH-2946—Shirt, Underwear, Lightweight Fire Retardant, ECWC, Army, Desert Sand, XSS

8415-00-NSH-2947—Shirt, Underwear, Lightweight Fire Retardant, ECWC, Army, Desert Sand, SS

8415-00-NSH-2948—Shirt, Underwear, Lightweight Fire Retardant, ECWC, Army, Desert Sand, MS

8415-00-NSH-2949—Shirt, Underwear, Lightweight Fire Retardant, ECWC, Army, Desert Sand, LS

8415-00-NSH-2950—Shirt, Underwear, Lightweight Fire Retardant, ECWC, Army, Desert Sand, XLS

8415-00-NSH-2951—Shirt, Underwear, Lightweight Fire Retardant, ECWC, Army, Desert Sand, XSR

8415-00-NSH-2952—Shirt, Underwear, Lightweight Fire Retardant, ECWC, Army, Desert Sand, SR

8415-00-NSH-2953—Shirt, Underwear, Lightweight Fire Retardant, ECWC, Army, Desert Sand, MR

8415-00-NSH-2954—Shirt, Underwear, Lightweight Fire Retardant, ECWC, Army, Desert Sand, LR

8415-00-NSH-2955—Shirt, Underwear, Lightweight Fire Retardant, ECWC, Army, Desert Sand, XLR

8415-00-NSH-2956—Shirt, Underwear, Lightweight Fire Retardant, ECWC, Army, Desert Sand, XSL

8415-00-NSH-2957—Shirt, Underwear, Lightweight Fire Retardant, ECWC, Army, Desert Sand, SL

8415-00-NSH-2958—Shirt, Underwear, Lightweight Fire Retardant, ECWC, Army, Desert Sand, ML

8415-00-NSH-2959—Shirt, Underwear, Lightweight Fire Retardant, ECWC, Army, Desert Sand, LL

8415-00-NSH-2960—Shirt, Underwear, Lightweight Fire Retardant, ECWC, Army, Desert Sand, XLL

Mandatory Source(s) of Supply: Southeastern Kentucky Rehabilitation Industries, Inc., Corbin, KY, Peckham Vocational Industries, Inc., Lansing, MI

Contracting Activity: Army Contracting Command—Aberdeen Proving Ground, Natick Contracting Division

Amy B. Jensen,
Director, Business Operations.

[FR Doc. 2017-03216 Filed 2-16-17; 8:45 am]

BILLING CODE 6353-01-P